DEPARTMENT OF ENERGY

Federal Energy Regulatory Commission

[Project No. 4283-005]

Fred N. Sutter, Jr.; Shamrock Utilities, LLC; Notice of Transfer of Exemption

1. By letter filed May 16, 2016, Fred N. Sutter, Jr. informed the Commission that the exemption from licensing for the Sutter's Mill Project No. 4283, originally issued March 1, 1982 ¹ has been transferred to Shamrock Utilities, LLC. The project is located on Millseat Creek in Shasta County, California. The transfer of an exemption does not require Commission approval.

¹ 18 FERC ¶ 62,359 (1982), Order Granting Exemption from Licensing of a Small Hydroelectric Project of 5 Megawatts or Less.

2. Shamrock Utilities, LLC is now the exemptee of the Sutter's Mill Project, No. 4283. All correspondence should be forwarded to: Mr. Rocky Ungaro, Shamrock Utilities, LLC, P.O. Box 859, Palo Cedro, CA 96073.

Dated: June 15, 2016.
Kimberly D. Bose,
Secretary.

[FR Doc. 2016-14597 Filed 6-20-16; 8:45 am]

BILLING CODE 6717-01-P